NUCLEAR REGULATORY COMMISSION

[Docket No. 50-293-LR; ASLBP No. 12-917-05-LR-BD01]

Entergy Nuclear Operations, Inc.; Establishment of Atomic Safety and Licensing Board

Pursuant to delegation by the Commission dated December 29, 1972, published in the Federal Register, 37 FR 28,710 (1972), and the Commission's regulations, see, e.g., 10 CFR 2.104, 2.300, 2.309, 2.313, 2.318, and 2.321, notice is hereby given that an Atomic Safety and Licensing Board (Board) is being established to preside over the following proceeding:

Entergy Nuclear Operations, Inc.

(Pilgrim Nuclear Power Station)

A Licensing Board is being established to consider a petition filed on March 8, 2012 by Jones River Watershed Association and by Pilgrim Watch seeking leave to reopen the record and request a hearing. Petitioners filed a correction and supplement to their petition on March 15, 2012. The petition pertains to the January 25, 2006 application from Entergy Nuclear Operations, Inc. to renew the current operating license for Pilgrim Nuclear Power Station, which expires on June 8, 2012, for an additional twenty years.

The Board is comprised of the following administrative judges:

Ann Marshall Young, Chair, Atomic Safety and Licensing Board Panel, U.S. Nuclear Regulatory Commission, Washington, DC 20555-0001;

Paul B. Abramson, Atomic Safety and Licensing Board Panel, U.S. Nuclear Regulatory Commission, Washington, DC 20555-0001;

Richard F. Cole, Atomic Safety and Licensing Board Panel, U.S. Nuclear Regulatory Commission, Washington, DC 20555-0001.

All correspondence, documents, and other materials shall be filed in accordance with the NRC E-filing rule, which the NRC promulgated in August 2007 (72 FR 49,139).

The Commission has requested that the Board issue a decision on the motion to reopen and request for hearing as expeditiously as possible, and no later than May 29, 2012. See Memorandum from Andrew L. Bates, Acting Secretary, to E. Roy Hawkens, Chief Administrative Judge, Atomic Safety and Licensing Board Panel (Mar. 30, 2012).

Dated: Issued at Rockville, Maryland, this 2nd day of April 2012.
E. Roy Hawkens,
Chief Administrative Judge, Atomic Safety and Licensing Board Panel.

[FR Doc. 2012-8314 Filed 4-5-12; 8:45 am]

BILLING CODE 7590-01-P